DEPARTMENT OF THE INTERIOR

Fish and Wildlife Service

Threemile Canyon Farms Multi-Species Candidate Conservation Agreement with Assurances

AGENCY: Fish and Wildlife Service, Interior.

ACTION: Notice of intent.

SUMMARY: Pursuant to the National Environmental Policy Act, this notice advises the public that the U.S. Fish and Wildlife Service (Service), in cooperation with the Oregon Department of Fish and Wildlife (ODFW), The Nature Conservancy (TNC), and Portland General Electric (PGE), intends to gather information necessary to prepare an environmental document (environmental assessment or environmental impact statement) regarding the proposed Threemile Canyon Farms Multi-Species Candidate Conservation Agreement with Assurances (MSCCAA) and issuance of an enhancement of survival permit under section 10(a)(1)(A) of the Endangered Species Act of 1973, as amended (ESA). Threemile Canyon Farms is the potential permit applicant.

The Service is furnishing this notice in order to: (1) Advise other Federal and State agencies, affected tribes, and the public of our intentions; (2) announce the initiation of a 30-day public scoping period; and (3) to obtain suggestions and information on the scope of issues to be included in the environmental document.

DATES: Written comments from all interested parties must be received on or before February 13, 2002.

ADDRESSES: Comments should be addressed to Kemper McMaster, State Supervisor, USFWS, 2600 SE 98th Ave., Suite 100, Portland, OR 97266, telephone (503) 231-6179, facsimile (503) 231-6195.

FOR FURTHER INFORMATION CONTACT: Kemper McMaster, (503) 231-6179.

SUPPLEMENTARY INFORMATION: Candidate Conservation Agreements with Assurances contain a strategy for covered lands and activities that demonstrate an applicant's contribution to preclude or remove the need to list a covered species as threatened or endangered under the Act. In return, the applicant is provided with regulatory certainty that they will not be required to provide additional conservation measures should any of the covered species become listed under the ESA in the future. The MSCCAA will cover approximately 93,000 acres near Boardman, Oregon, including a 23,000-acre wildlife conservation area managed by TNC and property owned by PGE located within the plan boundaries. The primary goal of the MSCCAA is to implement a variety of habitat conservation measures for the following covered species: the Washington ground squirrel (Spermophilus washington), ferruginous hawk (Buteo regalis), loggerhead shrike (Lanius ludovicianus), grasshopper sparrow (Ammodramus savannarum), and the sage sparrow (Amphispiza belli). Conservation measures will focus on restoration and re-establishment of native plant communities including sagebrush and bitterbrush steppe along with grassland species such as needle and thread (Stipa spp.). Other measures include control of exotic species and implementation monitoring. Potential covered activities include: mechanized farming and dairy operations; product transportation; road construction, use and maintenance; site preparation; fertilizer application; fire suppression; prescribed burning and other agricultural or habitat restoration activities.

The Service will conduct an environmental review of the Plan and prepare an environmental document. The review will analyze the proposal, as well as a full range of reasonable alternatives, and the associated impacts of each. Should information become available during the scoping process that indicates the likelihood of significant impacts from the proposed project, an Environmental Impact Statement will be prepared. Otherwise, an Environmental Assessment will be prepared. Comments and suggestions are invited from all interested parties to ensure the full range of issues related to this proposed action are identified. Comments, or questions should be addressed to the Service at the address or telephone number provided above.

The environmental review of this project will be conducted in accordance with the requirements of the National Environmental Policy Act of 1969, as amended (42 U.S.C. 4321 et seq.), National Environmental Policy Act Regulations 40 CFR (1500-1508), other appropriate Federal laws and regulations, and policies and procedures of the Service for compliance with those regulations.

Dated: January 8, 2002.
Rowan W. Gould,
Deputy Regional Director, Fish and Wildlife Service, Region 1, Portland, Oregon.

[FR Doc. 02-849 Filed 1-11-02; 8:45 am]

BILLING CODE 4310-55-P